UNIFIED CARRIER REGISTRATION PLAN

Sunshine Act Meeting Notice; Unified Carrier Registration Plan Board Subcommittee Meetings

TIME AND DATE: June 3, 2019, from 9:00 a.m. to 4:15 p.m., Mountain daylight time.

PLACE: Best Western Ramkota Hotel, 2111 N Lacrosse St., Rapid City, South Dakota. These meetings will also be accessible via conference call. Any interested person may call 1-866-210-1669, passcode 5253902#, to listen and participate in the open portions of these meetings.

STATUS: Parts of these meetings will be open to the public. Parts of these meetings will be closed to the public pursuant to Government in the Sunshine Act exemptions (c)(9)(B) and (c)(10) (see agendas below for further information).

MATTERS TO BE CONSIDERED: The Unified Carrier Registration Plan Board Subcommittees (each a “Subcommittee”) will continue their work in developing and implementing the Unified Carrier Registration Plan and Agreement. The subject matter of these meetings will include:

Procedures Subcommittee Meeting

Proposed Agenda

Portions Open to the Public

I. Call to Order—Subcommittee Chair

The Subcommittee Chair will call the meeting to order.

II. Verification of Meeting Notice—Operations Manager

Publication of notice for the meeting in the Federal Register will be verified.

III. Approval of Minutes from January 28, 2019 Meeting—Operations Manager

Minutes from the January 28, 2019 meeting will be reviewed and Subcommittee will consider approval.

IV. Direct Access to Federal Register—Chief Legal Officer

For Discussion and Possible Subcommittee Action

• Subcommittee will receive a report on the effort to obtain direct access to the Federal Register for publication of meeting announcements and consider recommending to the Board ratification of the Chief Legal Officer's actions in obtaining direct access to the Federal Register.

V. UCR Agreement Amendment—Subcommittee Chair

For Discussion and Possible Subcommittee Action

• Succession Plan in Event of Chair and Vice Chair Vacancy:

Proposal for amending the UCR Agreement to address Chair and Vice Chair vacancies will be reviewed and the Subcommittee will consider recommending action to the Board.

VI. UCR Handbook Amendments—Subcommittee Chair

For Discussion and Possible Subcommittee Action

• School Buses: New language for the handling of school buses for UCR purposes will be reviewed and the Subcommittee will consider whether to recommend to the Board approval of the language and placement in the Handbook.

• Refund Procedure: New language describing the UCR refund procedure will be reviewed and the Subcommittee will consider whether to recommend to the Board approval of the language and placement in the Handbook.

• State Carrier Audit Procedure: New language describing the state carrier audit procedure will be reviewed and the Subcommittee will consider whether to recommend to the Board approval of the language and placement in the Handbook.

Portions Closed to the Public

VII. Update on Twelve Percent Logistics Litigation—Scott Morris and Chief Legal Officer

Board will receive a report on the status of the litigation.

Portions Open to the Public

VIII. Other Items—Subcommittee Chair

The Subcommittee Chair will call for any other items the Subcommittee members would like to discuss.

IX. Adjourn—Subcommittee Chair

The Subcommittee Chair will adjourn the meeting.

Audit Subcommittee Meeting

Proposed Agenda

Open to the Public

I. Call to Order—Subcommittee Chair

The Subcommittee Chair will call the meeting to order.

II. Verification of Meeting Notice—Operations Manager

Publication of notice for the meeting in the Federal Register will be verified.

III. Approval of Minutes from January 28, 2019 Meeting—Operations Manager

Minutes from the January 28, 2019 meeting will be reviewed and the Subcommittee will consider approval.

IV. Update on Status of 2018 State Carrier Audits—Subcommittee Chair

Chair will review number of 2018 state audit reports received to date.

V. Proposal for Addressing Non-Compliant Carrier Audit Reports—Subcommittee Chair

For Discussion and Possible Subcommittee Action

• Proposal for how UCR should address non-compliant carrier audit reports submitted by participating states will be reviewed and the Subcommittee will consider recommending approval of the proposal to the Board.

VI. Update on Status of Focused Anomalies Review (FARs)—DSL Transportation

DSL will provide an update on the status of FARs for 2018 and 2019.

VII. Update on Audit Tool Development in NRS—Seikosoft

Seikosoft will provide an update on the status of development for the new audit tool in the National Registration System.

VIII. State Compliance Review in Alabama—UCR Administrator

Subcommittee Chair will summarize the pilot state compliance review conducted in the state of Alabama.

IX. State Auditor Training in Chicago—Operations Manager

Operations Manager will summarize the state auditor training held in Chicago.

X. Other Items—Subcommittee Chair

The Subcommittee Chair will call for any other items the Subcommittee members would like to discuss.

XI. Adjournment—Subcommittee Chair

The Subcommittee Chair will adjourn the meeting.

Finance Subcommittee Meeting

Proposed Agenda

Portions Open to the Public

I. Call to Order—Subcommittee Chair

Chair will call the meeting to order.

II. Verification of Meeting Notice—Operations Manager

Publication of notice for the meeting in the Federal Register will be verified.

III. Approval of Minutes from January 28, 2019 Meeting—Operations Manager

Minutes from the January 28, 2019 meeting will be reviewed and the Subcommittee will consider approval.

IV. Proposed Policy for Establishing Contingency Reserve—Subcommittee Chair

For Discussion and Possible Subcommittee Action

• Proposal for establishing a financial contingency reserve for the Plan will be reviewed and the Subcommittee will consider whether to recommend approval of the proposal to the Board.

V. Development Priorities—Subcommittee Chair

Discussion and Possible Subcommittee Action

• Subcommittee will consider potential recommendation(s) to the UCR Board of necessary system development projects based on updates above and consider whether to propose any of the recommendations to the Board for approval.

VI. Updates—UCR Administrator

• Registrations YTD: Subcommittee will receive an update on total carrier registrations to date.

• Investment Program: Subcommittee will receive an update on investments with both SunTrust and Bank of North Dakota.

• Depository Audit: Subcommittee will receive an update on the preparedness of the 2017 and 2018 financial statements for audit, along with the timing for process from fieldwork to delivery of audit report.

• State Distributions for 2019: Subcommittee will receive an update on distributions made to eligible participating states and potential timing.

• 2017 Registration Year Close: Subcommittee will receive an update on the actions taken as a part of closing the 2017 registration year.

• 2018 Registration Year: Subcommittee will receive an update on the status of reconciling the registration systems data with the depository data and related bank account balances.

• Operating Costs Incurred YTD: Subcommittee will receive an update on actual operating costs compared to the approved budgets.

VII. National Registration System—UCR Administrator

Subcommittee will receive an update on performance and status of certain system aspects to include convenience fee issues, refund procedures, and duplicated transactions.

Portions Closed to the Public

VIII. Inform Subcommittee RE: Data Investigation—Chair, Scott Morris, and Chief Legal Officer

Subcommittee will receive a report concerning a data investigation initiated since the last Subcommittee meeting.

IX. Ratification of Agreement RE: Data Investigation—Scott Morris and Chief Legal Officer

For Discussion and Possible Subcommittee Action:

• Subcommittee will consider a recommendation to the Board related to ratification of UCR Chair's expedient execution of a contract for information security and computer forensic services.

X. Update on Twelve Percent Logistics Litigation—Scott Morris and Chief Legal Officer

Subcommittee will receive a report on the status of the litigation.

Portions Open to the Public

XI. Other Items—Subcommittee Chair

The Subcommittee Chair will call for any other items the Subcommittee members would like to discuss.

XII. Adjourn—Subcommittee Chair

Chair will adjourn the meeting.

Registration System Subcommittee Meeting

Proposed Agenda

Portions Open to the Public

I. Call to Order—Subcommittee Chair

Chair will call the meeting to order.

II. Verification of Meeting Notice—Operation Manager

Publication of notice for the meeting in the Federal Register will be verified.

III. Approval of Minutes from January 28, 2019 Meeting—Operations Manager

Minutes from the January 28, 2019 meeting will be reviewed and the Subcommittee will consider approval.

IV. Proposal to Ratify UCR Chair's Decision to Delay Enforcement to May 1, 2019—Subcommittee Chair

For Discussion and Possible Subcommittee Action

• Subcommittee will consider whether to recommend that the Board ratify the UCR Chair's directive to postpone 2019 UCR enforcement to May 1, 2019.

V. Proposed Policy RE: Blocking Certain Carrier Payments with History of Problems—Subcommittee Chair

Discussion and Possible Subcommittee Action

• Proposal for new rules regarding the need to block specific payment methods utilized by carriers following multiple problems with that payment method will be reviewed and the Subcommittee will consider whether to recommend adoption of the policy to the Board.

VI. Proposed Policy RE: Pending Payment Time Period—Subcommittee Chair

Discussion and Possible Subcommittee Action

• Proposal for establishing a defined time period after which carriers having a payment pending in the National Registration System will cause the registration transaction to be deleted from the system will be reviewed and the Subcommittee will consider whether to recommend adoption of the policy to the Board.

VII. Proposal from Seikosoft—Subcommittee Chair

Discussion and Possible Subcommittee Action

• Proposal for additional administrative support to be provided by Seikosoft will be reviewed and Subcommittee will consider whether to recommend action on the proposal to the Board.

VIII. Development Priorities—Subcommittee Chair

Discussion and Possible Subcommittee Action

• Subcommittee will consider potential recommendation(s) to the Board of necessary system development projects based on updates above.

IX. Updates: National Registration System—Seikosoft

• Registrations YTD: Subcommittee will receive an update on total carrier registrations to date.

• Customer Service Performance: Subcommittee will receive an update on customer service metrics (calls, chats, emails).

• Solicitation Module: Subcommittee will receive an update on the new carrier solicitation functionality available to state administrators in the National Registration System, including a demonstration.

X. Trial Period for Modified Carrier-Verification—Subcommittee Chair

Subcommittee will receive an update on performance of trial period for modified carrier-verification (e.g., rate of registrations since implemented; volume of questions, complaints).

XI. UCR Bulletin for Participating States—Operations Manager

Subcommittee will be reminded that bulletin carrying updates and information relevant to state administrators is now being sent electronically from the UCR Administrator.

Portions Closed to the Public

XII. Inform Subcommittee RE: Data Investigation—Subcommittee Chair and Chief Legal Officer

Subcommittee will receive a report concerning a data investigation initiated since the last Subcommittee meeting.

XIII. Ratification of Agreement RE: Data Investigation—Subcommittee Chair

For Discussion and Possible Subcommittee Action

• Subcommittee will consider a recommendation to the Board related to ratification of UCR Chair's expedient execution of a contract for information security and computer forensic services.

Portions Open to the Public

XIV. Other Items—Subcommittee Chair

The Subcommittee Chair will call for any other items the Subcommittee members would like to discuss.

XV. Adjourn—Subcommittee Chair

Chair will adjourn the meeting.

Education and Training Subcommittee Meeting

Proposed Agenda

Open to the Public

I. Call to Order—Subcommittee Chair

The Subcommittee Chair will call the meeting to order.

II. Verification of Meeting Notice—Operations Manager

Publication of notice for the meeting in the Federal Register will be verified.

III. Purpose of Subcommittee—Subcommittee Chair

Subcommittee Chair will review the purpose of the new Education and Training Subcommittee.

IV. Proposal for Strategic Direction—Subcommittee Chair and Operations Manager

For Discussion and Possible Subcommittee Action

• Proposal for Kellen to provide strategic direction to the new UCR education and training program will be reviewed and the Subcommittee will consider whether to recommend any action to the Board, including possible approval of the proposal.

V. Feedback on Potential Education Topics for State Administrators—Subcommittee Chair

Subcommittee will hear feedback on potential topics for the new education and training program to cover.

VI. Other Items—Subcommittee Chair

The Subcommittee Chair will call for any other items the Subcommittee members would like to discuss.

VII. Adjournment—Subcommittee Chair

Subcommittee Chair will adjourn the meeting.

Industry Advisory Subcommittee Meeting

Proposed Agenda

Open to the Public

I. Call to Order—Subcommittee Chair

The Subcommittee Chair will call the meeting to order.

II. Verification of Meeting Notice—Operations Manager

Publication of notice for the meeting in the Federal Register will be verified.

III. Industry Feedback on National Registration System—Subcommittee Chair

Subcommittee Chair will report on feedback received from industry on performance, functionality, etc. of new National Registration System.

IV. Industry Feedback on UCR Handbook—Subcommittee Chair

Subcommittee Chair will report on feedback received from industry on usefulness, as well as suggestions, related to the UCR Handbook.

V. Other Items—Subcommittee Chair

The Subcommittee Chair will call for any other items the Subcommittee members would like to discuss.

VI. Adjournment—Subcommittee Chair

Subcommittee Chair will adjourn the meeting.

These agendas will be available no later than 5:00 p.m. Mountain daylight time, May 23, 2019 at: https://ucrplan.org.

CONTACT PERSON FOR MORE INFORMATION: Mr. Avelino Gutierrez, Chair, Unified Carrier Registration Board of Directors, (505) 827-4565, Avelino.Gutierrez@state.nm.us.

Alex B. Leath,
Chief Legal Officer, Unified Carrier Registration Plan.

[FR Doc. 2019-10581 Filed 5-16-19; 4:15 pm]

BILLING CODE 4910-YL-P